DEPARTMENT OF THE INTERIOR

Bureau of Land Management

[LLIDT000000.L11200000.DD0000.241A.00]

Notice of Public Meetings, Twin Falls District Resource Advisory Council, Idaho

AGENCY: Bureau of Land Management, Interior.

ACTION: Notice of public meetings.

SUMMARY: In accordance with the Federal Land Policy and Management Act (FLPMA), the Federal Advisory Committee Act of 1972 (FACA), and the Federal Lands Recreation Enhancement Act of 2004 (FLREA), the U.S. Department of the Interior, Bureau of Land Management (BLM) Twin Falls District Resource Advisory Council (RAC) and subcommittee for the Jarbidge Resource Management Plan (RMP) will meet as indicated below.

DATES: January 12, 2011 and January 26, 2011. On January 12, 2011, the Twin Falls District RAC subcommittee members will meet at the Loong Hing Restaurant, 1719 Kimberly Road, Twin Falls, Idaho. The meeting will begin at 6 p.m., and the public comment period will take place from 6:15 to 6:45 p.m.

On January 26, 2011, the Twin Falls District RAC members will meet at the Best Western Sawtooth Inn at 2653 S. Lincoln Street, Jerome, Idaho. The meeting will begin at 9 a.m. and end no later than 5 p.m. The public comment period for the RAC meeting will take place 9:15 a.m. to 9:45 a.m.

FOR FURTHER INFORMATION CONTACT: Heather Tiel-Nelson, Twin Falls District, Idaho, 2536 Kimberly Road, Twin Falls, Idaho, 83301, (208) 736-2352.

SUPPLEMENTARY INFORMATION: The 15-member RAC advises the Secretary of the Interior, through the Bureau of Land Management, on a variety of planning and management issues associated with public land management in Idaho. During the January 12th meeting, RAC subcommittee members will finalize their comments on the Jarbidge Draft Resource Management Plan/Environmental Impact Statement (RMP/EIS). During the January 26th meeting, there will be a new member orientation, and RAC members will discuss the subcommittee comments regarding the Jarbidge Draft RMP/EIS.

Additional topics may be added and will be included in local media announcements. More information is available at http://www.blm.gov/id/st/en/res/resource_advisory.3.html.

RAC meetings are open to the public. For further information about the meeting, please contact Heather Tiel-Nelson, Public Affairs Specialist for the Twin Falls District, BLM at (208) 736-2352.

Dated: December 10, 2010.
Bill Baker,
District Manager.

[FR Doc. 2010-32323 Filed 12-22-10; 8:45 am]

BILLING CODE 4310-GG-P